DEPARTMENT OF TRANSPORTATION

Federal Aviation Administration

Notice of Passenger Facility Charge (PFC) Approvals and Disapprovals

AGENCY: Federal Aviation Administration (FAA), DOT.

ACTION: Monthly Notice of PFC Approvals and Disapprovals.

In October 2008, there were nine applications approved. This notice also includes information on two applications, one approved in June 2008 and the other approved in September 2008, inadvertently left off the June 2008 and September 2008 notices, respectively. Additionally, 22 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Blair County Airport Authority, Martinsburg, Pennsylvania.

Application Number: 08-06-C-00-AOO.

Application Type: Impose and use a PFC.

PFC Level: $4.50.

Total PFC Revenue Approved in this Decision: $139,918.

Earliest Charge Effective Date: December 1, 2011.

Estimated Charge Expiration Date: December 1, 2014.

Class of Air Carriers not Required to Collect PFCs: Unscheduled Part 121 and Part 135 charter operators for hire to the general public.

Determination: Approved. Based on information contained in the public agency's application, the FAA has determined that the approved class accounts for less than 1 percent of the total annual enplanements at Altoona-Blair County Airport.

Brief Description of Projects Approved for Collection and Use:

Improve runway 3/21 and 30 safety areas.

Expand south hangar apron (construction), phase II.

Acquire land/easements for runway 3/21, phase II.

Acquire snow removal equipment (snow blower).

Construct T-Hangar taxilanes (design), phase I.

Acquire aircraft rescue and firefighting vehicle, class 1 (per Part 139 safety inspectors).

Rehabilitate airport beacon (replacement).

Construct hangar taxilanes (construction), phase II.

Update airport master plan study.

Acquire land/easement runway 3/21 primary surface, 1 acre, phase II, purchase.

Decision Date: June 6, 2008.

FOR FURTHER INFORMATION CONTACT: Lori Ledebohm, Harrisburg Airports District Office, (707) 730-2835.

Public Agency: Lawton Metropolitan Airport Authority, Lawton, Oklahoma.

Application Number: 08-06-C-00-LAW.

Application Type: Impose and use a PFC.

PFC Level: $4.50.

Total PFC Revenue Approved in This Decision: $917,000.

Earliest Charge Effective Date: April 1, 2009.

Estimated Charge Expiration Date: November 1, 2013.

Class of Air Carriers not Required to Collect PFCs: None.

Brief Description of Projects Approved for Collection and Use:

Emergency generator.

Terminal building renovations.

Security enhancements.

PFC administration fees.

Decision Date: September 30, 2008.

FOR FURTHER INFORMATION CONTACT: Bill Bell, Arkansas/Oklahoma Airports Development Office, (817) 222-5664.

Public Agency: Metropolitan Nashville Airport Authority, Nashville, Tennessee.

Application Number: 08-14-C-00-BNA.

Application Type: Impose and use a PFC.

PFC Level: $3.00.

Total PFC Revenue Approved in This Decision: $55,362,918.

Earliest Charge Effective Date: November 1, 2011.

Estimated Charge Expiration Date: June 1, 2016.

Class of Air Carriers not Required to Collect PFCs:

Unscheduled air carriers with enplaned passengers using air taxis that enplane fewer than 25,000 passengers per year.

Determination: Approved. Based on information contained in the public agency's application, the FAA has determined that the approved class accounts for less than 1 percent of the total annual enplanements at Nashville International Airport.

Brief Description of Projects Approved for Collection and Use:

In-line explosive detection system.

Reconstruct taxiway Alpha south (construction).

Terminal renovation and concession upgrade, phase II.

West side spill gates.

Terminal access road improvements phase I—road and bridge work.

Terminal apron repair.

Rehabilitate Federal Inspection Services facility.

Brief Description of Project Paritally Approved for Collection and Use: Reconstruct taxiway Bravo south (construction).

Determination: This project was for the local matching share of an Airport Improvement Program grant. The grant amount was less than had been anticipated resulting in a smaller local matching share. Therefore, the PFC approved amount was reduced from that requested.

Decision Date: October 2, 2008.

FOR FURTHER INFORMATION CONTACT: Tommy DuPree, Memphis Airports District Office, (901) 322-8182.

Public Agency: Texas A&M University, College Station, Texas.

Application Number: 08-06-C-00-CLL.

Application Type: Impose and use a PFC.

PFC Level: $4.50.

Total PFC Revenue Approved in This Decision: $1,385,581.

Earliest Charge Effective Date: April 1, 2009.

Estimated Charge Expiration Date: January 1, 2013.

Class of Air Carriers not Required to Collect PFCs: None.

Brief Description of Projects Approved for Collection and Use:

Taxiway E rehabilitation.

Westside apron (with taxiway H-1 fillet).

Airfield drainage improvements.

Perimeter fencing upgrades.

Airfield regulators.

Runway 16/34 rehabilitation.

Wind cones.

Taxiway H construction.

Terminal apron expansion.

Terminal building rehabilitation.

Security system upgrades—closed circuit television system.

PFC application and administration.

Decision Date: October 15, 2008.

FOR FURTHER INFORMATION CONTACT: Steven Cooks, Texas Airports Development Office, (817) 222-5608.

Public Agency: Tulsa Airports Improvement Trust, Tulsa, Oklahoma.

Application Number: 08-06-C-00-TUL.

Application Type: Impose and use a PFC.

PFC Level: $3.00.

Total PFC Revenue Approved in This Decision: $65,043,406.

Charge Effective Date: April 1, 2010.

Estimated Charge Expiration Date: September 1, 2026.

Class of Air Carriers not Required to Collect PFCs: Air taxi/commercial operators filing FAA Form 1800-31.

Determination: Approved. Based on information contained in the public agency's application, the FAA has determined that the approved class accounts for less than 1 percent of the total annual enplanements at Tulsa International Airport.

Brief Description of Projects Approved for Collection and Use:

Terminal building rehabilitation and improvement.

Terminal access roadway rehabilitation.

Medium intensity approach lighting system with runway end identifier lights installation, runway 26.

Runway 26 repair and rehabilitation.

Taxiway C and taxiway L repair and rehabilitation.

Runway 18L/36R rehabilitation.

Taxiway J design and rehabilitation.

Decision Date: October 16, 2008.

FOR FURTHER INFORMATION CONTACT: Lana Logan, Arkansas/Oklahoma Airports Development Office, (817) 222-5636.

Public Agency: Luzerne and Lackawanna Counties, Avoca, Pennsylvania.

Application Number: 08-05-C-00-AVP.

Application Type: Impose and use a PFC.

PFC Level: $4.50.

Total PFC Revenue Approved in This Decision: $6,888,604.

Earliest Charge Effective Date: April 1, 2011.

Estimated Charge Expiration Date: August 1, 2017.

Class of Air Carriers not Required to Collect PFCs: None.

Brief Description of Projects Approved for Collection and Use:

Runway 4/22 overlay.

Runway 4/22 emergency repairs.

Runway sensor system computers.

Security vehicles including airfield radios and aircraft rescue and firefighting pagers.

Replace 22-foot runway flared end snow plow.

Continuous runway friction measuring equipment.

Seal coat aircraft ramp and rejuvenate taxiways to runway 10/28.

Expand concrete area of airline ramp.

Four wheel drive loader.

Brief Description of Projects Approved for Collection:

Rehabilitate general aviation and old terminal apron.

Quick response aircraft rescue and firefighting vehicle.

Construct taxiway B extension to runway 22 end (environmental assessment and design).

Rehabilitate landside roadway.

Construct shoulders along taxiway D.

Brief Description of Disapproved Project:

Construct covered walkway to employee parking.

Determination: This project is not Airport Improvement Program eligible, and therefore, is not PFC eligible.

Decision Date: October 17, 2008.

FOR FURTHER INFORMATION CONTACT: Lori Ledebohm, Harrisburg Airports District Office, (717) 730-2835.

Public Agency: Clark County Department of Aviation, Las Vegas, Nevada.

Application Number: 08-07-U-00-LAS.

Application Type: Use PFC revenue.

PFC Level: $4.50.

Total PFC Revenue Approved for Use in this Decision: $379,859,124.

Charge Effective Date: April 1, 2014.

Estimated Charge Expiration Date: July 1, 2022.

Class of Air Carriers not Required to Collect PFC's: No change from previous decision.

Brief Description of Projects Approved for Use at a $4.50 PFC Level:

Design of terminal 3.

Russell Road relocation.

Brief Description of Project Approved for Use at a $3.00 PFC Level: Russell Road park.

Decision Date: October 23, 2008.

FOR FURTHER INFORMATION CONTACT: Ron Biaoco, San Francisco Airports District Office, (650) 876-2778, extension 626.

Public Agency: City of Amarillo, Texas.

Application Number: 08-01-C-00-AMA.

Application Type: Impose and use a PFC.

PFC Level: $4.50.

Total PFC Revenue Approved in This Decision: $19,200,000.

Earliest Charge Effective Date: December 1, 2008.

Estimated Charge Expiration Date: July 1, 2018.

Class of Air Carriers not Required to Collect PFC's:

Nonscheduled/on-demand Part 135 air carriers filing FAA Form 1800-31.

Determination: Approved. Based on information contained in the public agency's application, the FAA has determined that the approved class accounts for less than 1 percent of the total annual enplanements at Rick Husband Amarillo International Airport.

Brief Description of Project Approved for Collection and Use: Construction of the terminal building addition and update of systems in the main terminal.

Decision Date: October 29, 2008.

FOR FURTHER INFORMATION CONTACT: Glenn Boles, Texas Airports Development Office, (817) 222-5661.

Public Agency: City of Houston, Texas.

Application Number: 08-01-C-00-IAH.

Application Type: Impose and use a PFC.

PFC Level: $3.00.

Total PFC Revenue Approved in this Decision: $1,372,445,143.

Earliest Charge Effective Date: December 1, 2008.

Estimated Charge Expiration Date: November 1, 2027.

Class of Air Carriers not Required to Collect PFCs:

Air taxi/commercial operators filing FAA Form 1800-31.

Determination: Approved. Based on information contained in the public agency's application, the FAA has determined that the approved class accounts for less than 1 percent of the total annual enplanements at George Bush Intercontinental Airport.

Brief Description of Projects Approved for Collection and Use:

Automated people mover system.

Terminal B expansion program and related improvements.

Central Federal Inspection Services facility.

New north parallel runway.

PFC program administrative costs.

Central plant heating, ventilation, and air conditioning upgrades.

Terminal A/B south taxiways.

Decision Date: October 29, 2008.

FOR FURTHER INFORMATION CONTACT: Ben Guttery, Texas Airports Development Office, (817) 222-5614.

Public Agency: Evansville-Vanderburgh Airport Authority, Evansville, Indiana.

Application Number: 08-02-C-00-EVV.

Application Type: Impose and use a PFC.

PFC Level: $4.50.

Total PFC Revenue Approved in this Decision: $3,983,706.

Earliest Charge Effective Date: December 1, 2008.

Estimated Charge Expiration Date: March 1, 2013.

Class of Air Carriers not Required to Collect PFC's:

Air taxi/commercial operators filing FAA Form 1800-31.

Determination: Approved. Based on information contained in the public agency's application, the FAA has determined that the approved class accounts for less than 1 percent of the total annual enplanements at Evansville Regional Airport.

Brief Description of Projects Approved for Collection and Use:

Install perimeter road, fence, and drainage basin.

PFC administrative costs.

Decision Date: October 30, 2008.

FOR FURTHER INFORMATION CONTACT: Gary Wilson, Chicago Airports District Office, (847) 294-7631.

Public Agency: Duluth Airport Authority, Duluth, Minnesota.

Application Number: 08-08-C-00-DLH.

Application Type: Impose and use a PFC.

PFC Level: $4.50.

Total PFC Revenue Approved in This Decision: $422,485.

Earliest Charge Effective Date: May 1,2010.

Estimated Charge Expiration Date: April 1, 2011.

Class of Air Carriers not Required to Collect PFC's: Air taxi/ commercial operators.

Determination: Approved. Based on information contained in the public agency's application, the FAA has determined that the approved class accounts for less than 1 percent of the total annual enplanements at Duluth International Airport.

Brief Description of Projects Approved for Collection and Use:

Preparation of PFC letter of intent.

Conduct wildlife assessment.

Design terminal building modifications.

Planning for replacement terminal building and apron.

Rehabilitate and expand cargo apron.

Rehabilitate runway 3/21.

Remove and replace boiler in terminal building.

Conduct pavement condition index inventory study.

Prepare spill prevention control and countermeasures plan.

Expand terminal building for baggage and ticketing.

Prepare plans and specifications for passenger boarding bridge.

Rehabilitate and expand general aviation aircraft parking area.

Construct taxiway to new general aviation apron.

Construct general aviation apron.

Construct taxiway to future hangar area.

Construct taxilane within future hangar area.

Relocate and construct general aviation area access road.

Replace airport beacon.

Purchase Minnesota Power hangar.

Purchase Monaco T-Hangar.

Decision Date: October 30, 2008.

FOR FURTHER INFORMATION CONTACT: Nancy Nistler, Minneapolis Airports District Office, (612) 713-4353.

Amendments To PFC Approvals
Amendment No., City, State | Amendment Approved Date | Original Approved Net PFC Revenue | Amended Approved Net PFC Revenue | Original Estimated Charge Exp. Date | Amended Estimated Charge Exp. Date
*03-05-C-01-AOO Altoona, PA | 06/08/08 | $232,460 | $208,710 | 11/01/13 | 12/01/11
92-01-C-11-SJC San Jose, CA | 09/26/08 | $64,570,368 | $65,220,180 | 07/01/96 | 07/01/96
99-07-C-03-SJC San Jose, CA | 09/26/08 | $12,628,000 | $12,778,609 | 07/01/02 | 07/01/02
01-11-C-03-SJC San Jose, CA | 09/26/08 | $131,055,103 | $131,401,412 | 01/01/07 | 02/01/08
94-01-C-05-ISP Islip, NY | 09/29/08 | $21,974,503 | $21,865,831 | 07/01/04 | 07/01/04
92-01-C-01-ACV Arcata, CA | 09/30/08 | $188,500 | $169,564 | 03/01/94 | 03/01/94
04-04-0-01-LAW Lawton, OK | 09/30/08 | $253,021 | $249,492 | 10/01/05 | 10/01/05
97-01-C-02-MFE McAllen, TX | 09/30/08 | $3,114,426 | $3,304,011 | 01/01/02 | 01/01/02
03-03-C-01-HLN Helena, MT | 10/07/08 | $2,336,432 | $2,938,178 | 06/01/10 | 10/01/12
94-01-C-10-10-CVG Covington, KY | 10/08/08 | $35,797,000 | $27,431,000 | 04/01/96 | 04/01/96
95-02-C-07-CVG Covington, KY | 10/08/08 | $76,920,000 | $73,633,000 | 12/01/98 | 12/01/98
01-06-C-04-CVG Covington, KY | 10/08/08 | $19,580,000 | $16,313,000 | 11/01/02 | 11/01/02
01-07-C-06-CVG Covington, KY | 10/08/08 | $39,590,000 | $39,596,000 | 02/01/04 | 02/01/04
02-08-C-04-CVG Covington, KY | 10/08/08 | $268,108,000 | $213,098,000 | 11/01/11 | 05/01/09
07-11-C-01-CVG Covington, KY | 10/08/08 | $6,478,000 | $3,590,000 | 11/01/15 | 09/01/12
08-08-C-01-JNU Juneau, AK | 10/09/08 | $8,142,712 | $9,905,870 | 08/01/16 | 11/01/17
06-07-C-01-BUR Burbank, CA | 10/09/08 | $19,543,195 | $26,793,195 | 09/01/12 | 09/01/12
96-03-0-02-LAX Los Angeles, CA | 10/10/08 | $52,027,000 | $54,716,297 | 01/01/96 | 01/01/96
01-04-C-02-MAF Midland, TX | 10/14/08 | $1,622,298 | $1,395,921 | 11/01/14 | 11/01/14
07-05-C-01-MAF Midland, TX | 10/14/08 | $1,553,549 | $1,544,032 | 08/01/15 | 08/01/15
01-04-C-01-CLL College Station, TX | 10/16/08 | $1,174,445 | $1,306,529 | 01/01/07 | 01/01/07
04-08-C-03-RNO Reno, NV | 10/23/08 | $26,712,865 | $49,500,000 | 08/01/07 | 07/01/07
NOTES: The amendment denoted by an asterisk (*) includes a change to the PFC level charged from $3.00 per enplaned passenger to $4.50 per enplaned passenger. For Altoona, PA this change is effective on December 1, 2008.

Issued in Washington, DC on November 20, 2008.
Joe Hebert,
Manager, Financial Analysis and Passenger Facility Charge Branch.

[FR Doc. E8-28227 Filed 11-28-08; 8:45 am]

BILLING CODE 4910-13-M